DEPARTMENT OF HOUSING AND URBAN DEVELOPMENT

[Docket No. FR-4904-N-06]

Notice of Proposed Information Collection: Comment Request, Economic Development Initiative and Brownfields Economic Development Initiative Grant Programs

AGENCY: Office of the Assistant Secretary for Community Planning and Development, HUD.

ACTION: Notice.

SUMMARY: The proposed information collection requirement described below will be submitted to the Office of Management and Budget (OMB) for review, as required by the Paperwork Reduction Act. The Department is soliciting public comments on the subject proposal.

DATES: Comments Due Date: July 6, 2004.

ADDRESSES: Interested persons are invited to submit comments regarding this proposal. Comments should refer to the proposal by name and/or OMB Control Number and should be sent to: Shelia Jones, Reports Liaison Officer, Department of Housing Urban and Development, 451 7th Street, SW., Room 7232, Washington, DC 20410.

FOR FURTHER INFORMATION CONTACT: Bill Seedyke, Director, Grants Management Division, Office of Economic Development, Office of Community Planning and Development, U.S. Department of Housing and Urban Development, 451 Seventh Street, SW., Room 7140, Washington, DC 20410; telephone number: (202) 708-3484, ext. 4445 (this is not a toll-free number) for copies of the proposed form and other available documents.

SUPPLEMENTARY INFORMATION: The Department is submitting the proposed information collection to OMB for review, as required by the Paperwork Reduction Act of 1995 (44 U.S.C. Chapter 35, as Amended).

This Notice is soliciting comments from members of the public and affected agencies concerning the proposed collection of information to: (1) Evaluate whether the proposed collection of information is necessary for the proper performance of the functions of the agency, including whether the information will have practical utility; (2) Evaluate the accuracy of the agency's estimate of the burden of the proposed collection of information; (3) Enhance the quality, utility, and clarity of the information to be collected; and (4) Minimize the burden of the collection of information on those who are to respond; including through the use of appropriate automated collection techniques or other forms of information technology, e.g., permitting electronic submission of responses.

This Notice also lists the following information:

Title of Proposal: Economic Development Initiative (EDI) and Brownfields Economic Development (BEDI) Grant Programs.

OMB Control Number, if applicable: 2506-0153.

Description of the need for the information and proposed use: Information collection is required to rate and rank applications submitted as part of a funding competition to ensure funding eligibility of applicant activities.

Agency form numbers, if applicable: form HUD-40076-A EDI/BEDI (8/2004), form HUD 40076-B EDI/BEDI (8/2004), form HUD 40076-C EDI/BEDI (8/2004), form HUD 40076—C EDI/BEDI (8/2004), form 40076-D EDI/BEDI (8/2004), form 40076-E EDI/BEDI (8/2004).

Estimation of the total numbers of hours needed to prepare the Information collection including number of respondents, frequency of response, and hours of response: 50 respondents per year for the BEDI program only, with no new competitive EDI funds made available since FY 2001. Forty hours required to respond per application, once a year, for a total of 2000 hours.

Status of the proposed information collection: Expired number of previously approved collection and forms.

Authority: The Paperwork Reduction Act of 1995, 44 U.S.C. Chapter 35, as amended.

Dated: April 28, 2004.
Roy Bernardi,
Assistant Secretary for Community Planning and Development.

[FR Doc. 04-10108 Filed 5-3-04; 8:45 am]

BILLING CODE 4120-29-M